ENVIRONMENTAL PROTECTION AGENCY

40 CFR Parts 174 and 180

[EPA-HQ-OPP-2021-0088; FRL-10025-08]

Receipt of Pesticide Petitions Filed for Residues of Pesticide Chemicals in or on Various Commodities—June 2021

AGENCY: Environmental Protection Agency (EPA).

ACTION: Filing of petitions and request for comment.

SUMMARY: This document announces the Agency's receipt of initial filings of pesticide petitions requesting the establishment or modification of regulations for residues of pesticide chemicals in or on various commodities.

DATES: Comments must be received on or before July 28, 2021.

ADDRESSES: Submit your comments, identified by docket identification (ID) number and the pesticide petition (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Marietta Echeverria, Registration Division (7505P), main telephone number: (703) 305-7090, email address: RDFRNotices@epa.gov; or Charles Smith, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Amended Tolerances for Non-Inerts

1. PP 0E8846. (EPA-HQ-OPP-2020-0417). Interregional Research Project No. 4 (IR-4), IR-4 Project Headquarters, Rutgers, The State University of NJ, 500 College Road East, Suite 201 W, Princeton, NJ 08540, requests to amend 40 CFR part 180 by removing established tolerances for the residues of Cyprodinil 4-cyclopropyl-6-methyl-N-phenyl-2-pyrimidinamine in or on the raw agricultural commodities: Brassica, head and stem, subgroup 5A at 1.0 parts per million (ppm), Brassica, leafy greens, subgroup 5B at 10.0 ppm; Leaf petioles subgroup 4B at 30 ppm, Leafy greens subgroup 4A at 50 ppm, Lemon at 0.60 ppm, Lime at 0.60 ppm, Longan at 2.0 ppm; Lychee at 2.0 ppm, Spanish lime at 2.0 ppm and Turnip, greens at 10.0 ppm. Contact: RD.

2. PP 0E8847. (EPA-HQ-OPP-2020-0419). Interregional Research Project No. 4 (IR-4), IR-4 Project Headquarters, Rutgers, The State University of NJ, 500 College Road East, Suite 201 W, Princeton, NJ 08540, requests to amend 40 CFR part 180 by removing established tolerances for the residues of Fludioxonil, [4-(2, 2-difluoro-1,3-benzodioxol-4-yl)-1H-pyrrole-3-carbonitrile] in or on the raw agricultural commodities: Carrots at 7.0 ppm, Cotton, undelinted seed at 0.05 ppm, Dragon fruit at 1.0 ppm; Leaf petioles subgroup 4B at 15 ppm, Leafy greens subgroup 4A at 30 ppm, Longan at 20 ppm, Lychee at 20 ppm, Melon subgroup 9A at 0.03 ppm, Safflower, seed at 0.01 ppm, Spanish lime at 20 ppm, Sunflower, seed at 0.01 ppm, Vegetable, legume, group 6 at 0.01 ppm, Vegetable, root, except sugar beet, subgroup 1B at 0.75 ppm and Vegetable, tuberous and corm, subgroup 1C at 6.0 ppm. Contact: RD.

3. PP 0E8861. (EPA-HQ-OPP-2020-0601). Interregional Research Project No. 4 (IR-4), IR-4 Project Headquarters, Rutgers, The State University of NJ, 500 College Road East, Suite 201 W, Princeton, NJ 08540, requests to amend 40 CFR part 180 by removing established tolerances for residues of the sum of fluensulfone, 5-chloro-2-[(3,4,4-trifluoro-3-buten-1-yl)sulfonyl]thiazole and its metabolite, 3,4,4-trifluoro-but-3-ene-1-sulfonic acid, calculated as the stoichiometric equivalent of fluensulfone, in or on the commodities: Brassica, head and stem, subgroup 5A at 1.5 ppm; Brassica, leafy greens, subgroup 5B at 20 ppm; Vegetables, leafy, except Brassica, group 4 at 4 ppm. Contact: RD.

4. PP 0E8882. (EPA-HQ-OPP-2021-0153). Interregional Research Project No. 4 (IR-4), IR-4 Project Headquarters, Rutgers, The State University of NJ, 500 College Road East, Suite 201 W, Princeton, NJ 08540, requests to amend 40 CFR part 180 by removing established tolerances for residues of novaluron, including its metabolites and degradates, in or on Bean, dry, seed at 0.30 ppm; and Bean, succulent at 0.70 ppm. Contact: RD.

5. PP 9E8812. (EPA-HQ-OPP-2020-0054). Interregional Research Project Number 4 (IR-4), Rutgers, The State University of New Jersey, 500 College Road East, Suite 201W, Princeton, NJ 08540 requests to amend 40 CFR 180.242 by removing the established tolerances for residues of thiabendazole (2-(4-thiazolyl)benzimidazole), including its metabolites and degradates, in or on the following raw agricultural commodities: Potato, postharvest at 10.0 ppm; Sweet potato (postharvest to sweet potato intended only for use as seed) at 0.05 ppm; Alfalfa, forage at 0.02 ppm; Alfalfa, hay at 0.02 ppm; Radish, tops at 0.02 ppm; Brassica, head and stem, subgroup 5A at 0.02 ppm; Fruit, citrus, group 10, postharvest at 10.0 ppm; Fruit, pome, group 11, postharvest at 5.0 ppm; Vegetable, root (except sugarbeet), subgroup 1B at 0.02 ppm; Carrot, roots, postharvest at 10.0 ppm; and in paragraph (b) Sweet potato at 10 ppm. Contact: RD.

New Tolerance Exemptions for Inerts (Except PIPS)

1. IN-11436. (EPA-HQ-OPP-2021-0326). Burdock Group (859 Outer Road, Orlando, FL 32814) on behalf of SCG Solutions, LLC. (1358 South 9th St., DePere, WI 54115) requests to establish an exemption from the requirement of a tolerance for residues of calcium bisulfate when used as an inert ingredient (acidifying/buffering agent) in antimicrobial formulations applied to food-contact surfaces in public eating places, dairy-processing equipment, and food-processing equipment and utensils under 40 CFR 180.940(a), limited to 2,000 parts per million (ppm) in the final formulation. The petitioner believes no analytical method is needed because it is not required for an exemption from the requirement of a tolerance. Contact: RD.

2. IN-11520. (EPA-HQ-OPP-2021-0338). Exponent, Inc. (1150 Connecticut Ave. NW, Suite 1100, Washington, DC 20036) on behalf of UPL NA Inc. (630 Freedom Business Center, Suite 402, King of Prussia, PA 19406) requests to establish an exemption from the requirement of a tolerance for residues of sodium metabisulfite (CAS No. 7681-57-4) when used as an inert ingredient (oxygen scavenger/antioxidant) in pesticide formulations applied on crops pre-harvest according to 40 CFR part 180.920, at a limit of not more than 0.5% by weight in pesticide formulations. The petitioner believes no analytical method is needed because it is not required for an exemption from the requirement of a tolerance. Contact: RD.

New Tolerance Exemptions for Non-Inerts (Except PIPS)

PP 1F8900. (EPA-HQ-OPP-2021-0269). GreenLight Biosciences, Inc. 200 Boston Ave., Suite 1000, Medford, MA 02155, requests to establish an exemption from the requirement of a tolerance in 40 CFR part 180 for residues of the double-stranded RNA insecticide Ledprona (CAS No. 2433753-68-3) in or on all agricultural commodities and food products. The petitioner believes no analytical method is needed given the low toxicity demonstrated in the available toxicological data, that RNA is present in all living organisms as well as routinely consumed as part of human and animal diets with no apparent adverse effects, and the large molecular weight of the active ingredient. Contact: BPPD.

New Tolerances for Non-Inerts

1. PP 9E8812. (EPA-HQ-OPP-2020-0054). Interregional Research Project Number 4 (IR-4), Rutgers, The State University of New Jersey, 500 College Road East, Suite 201W, Princeton, NJ 08540 requesting, pursuant to section 408(d) of the Federal Food, Drug, and Cosmetic Act (FFDCA), 21 U.S.C. 346a(d), to amend 40 CFR part 180.242 by establishing tolerances for residues of thiabendazole (2-(4-thiazolyl)benzimidazole), including its metabolites and degradates, in or on the following raw agricultural commodities: Animal feed, nongrass, group 18 at 0.01 parts per million (ppm); Beet, garden, leaves at 0.01 ppm; Brassica, leafy greens, subgroup 4-16B at 0.01 ppm; Burdock, edible, leaves at 0.01 ppm; Carrot, leaves at 0.01 ppm; Carrot, roots at 10 ppm; Celeriac, leaves at 0.01 ppm; Chervil, turnip rooted, leaves at 0.01 ppm; Chicory, leaves at 0.01 ppm; Fruit, citrus, group 10-10 at 10 ppm; Fruit, pome, group 11-10 at 10 ppm; Kohlrabi at 0.01 ppm; Radish, oriental, leaves at 0.01 ppm; Rutabaga, leaves at 0.01 ppm; Salsify, black, leaves at 0.01 ppm; Sweet potato, tuber at 3 ppm; Vegetable, Brassica, head and stem, group 5-16 at 0.01 ppm; Vegetable, root, except sugar beet, subgroup 1B at 0.01 ppm; Vegetable, tuberous and corm, subgroup 1C, except sweet potato at 10 ppm. The Pesticide Analytical Manual (PAM) Vol. II lists four spectrophotofluorometric methods (Methods I, A, B and C) for determining residues of thiabendazole per se in or on plant commodities, and one spectrophotofluorometric method (Method D) for determining residues of thiabendazole and 5-hydroxythiabendazole in milk. Contact: RD.

2. PP 0E8846. (EPA-HQ-OPP-2020-0417). Interregional Research Project No. 4 (IR-4), IR-4 Project Headquarters, Rutgers, The State University of NJ, 500 College Road East, Suite 201 W, Princeton, NJ 08540, requests to amend 40 CFR part 180 by establishing tolerances for residues of Cyprodinil 4-cyclopropyl-6-methyl-N-phenyl-2-pyrimidinamine in or on the raw agricultural commodities: Brassica, leafy greens, subgroup 4-16B, except watercress at 10 parts per million (ppm), Celtuce at 30 ppm, Fennel, Florence, fresh leaves and stalk at 30 ppm, Kohlrabi at 1 ppm, Leaf petiole vegetable subgroup 22B at 30 ppm, Leafy greens subgroup 4-16A, except parsley, fresh leaves at 50 ppm, Lemon/lime subgroup 10-10B at 0.6 ppm, Sugar apple at 4 ppm, Tropical and subtropical, small fruit, inedible peel, subgroup 24A at 2 ppm and Vegetable, Brassica, head and stem, group 5-16 at 1 ppm. Syngenta Crop Protection has developed and validated analytical methodology for enforcement purposes. This method (Syngenta Crop Protection Method AG-631B) has passed an Agency petition method validation for several commodities and is currently the enforcement method for cyprodinil. Contact: RD.

3. PP 0E8847. (EPA-HQ-OPP-2020-0419). Interregional Research Project No. 4 (IR-4), IR-4 Project Headquarters, Rutgers, The State University of NJ, 500 College Road East, Suite 201 W, Princeton, NJ 08540, requests to amend 40 CFR part 180 by establishing tolerances for residues of Fludioxonil, [4-(2, 2-difluoro-1,3-benzodioxol-4-yl)-1H-pyrrole-3-carbonitrile] in or on the raw agricultural commodities: Carrot, roots at 7 parts per million (ppm), Celtuce at 15 ppm, Cottonseed subgroup 20C at 0.05 ppm, Dragon fruit at 20 ppm, Durian at 20 ppm, Fennel, Florence, fresh leaves and stalk at 15 ppm, Jackfruit at 20 ppm, Leaf petiole vegetable subgroup 22B at 15 ppm, Leafy greens subgroup 4-16A at 30 ppm, Mangosteen at 5 ppm, Persimmon, Japanese at 5 ppm, Sunflower subgroup 20B at 0.01 ppm, Tropical and subtropical, small fruit, inedible peel, subgroup 24A at 20 ppm, Vegetable, legume, group 6, except bean, dry and bean, succulent at 0.01 ppm, Vegetable, root, except sugar beet, subgroup 1B, except carrot and ginseng at 0.75 ppm and Vegetable, tuberous and corm, subgroup 1C, except yam, true, tuber at 6 ppm. Syngenta has developed and validated analytical methodology for enforcement purposes. This method (Syngenta Crop Protection Method AG- 597B) has passed an Agency petition method validation for several commodities and is currently the enforcement method for fludioxonil. Contact: RD.

4. PP 0E8861. (EPA-HQ-OPP-2020-0601). Interregional Research Project No. 4 (IR-4), IR-4 Project Headquarters, Rutgers, The State University of NJ, 500 College Road East, Suite 201 W, Princeton, NJ 08540, requests to amend 40 CFR part 180 by establishing tolerances for residues of the sum of fluensulfone, 5-chloro-2-[(3,4,4-trifluoro-3-buten-1-yl)sulfonyl]thiazole and its metabolite, 3,4,4-trifluoro-but-3-ene-1-sulfonic acid, calculated as the stoichiometric equivalent of fluensulfone, in or on the commodities: Beet, sugar, dried pulp at 0.3 parts per million (ppm); Beet, sugar, leaves at 4 ppm; Beet, sugar, molasses at 1.5 ppm; Beet, sugar, roots at 0.2 ppm, Brassica, leafy greens, subgroup 4-16B at 20 ppm; Celtuce at 4 ppm; Fennel, Florence, fresh leaves and stalk at 4 ppm; Kohlrabi at 1.5 ppm; Leafy greens subgroup 4-16A at 4 ppm; Leaf petiole vegetable subgroup 22B at 4 ppm; and Vegetable, Brassica, head and stem, group 5-16 at 1.5 ppm. Adequate analytical methods for determining fluensulfone in/on appropriate raw agricultural commodities and processed commodities have been developed and validated, including LC-MS/MS methods. Contact: RD.

5. PP 0E8864. (EPA-HQ-OPP-2020-0691). Interregional Research Project No. 4 (IR-4), IR-4 Project Headquarters, Rutgers, The State University of NJ, 500 College Road East, Suite 201 W, Princeton, NJ 08540, requests to amend 40 CFR part 180 by establishing tolerances for residues of the herbicide MCPA ((4-chloro-2-methylphenoxy)acetic acid, both free and conjugated, resulting from the direct application of MCPA or its sodium, dimethylamine salts or its 2-ethylhexyl ester in or on the raw agricultural commodity clover, forage at 0.1 parts per million (ppm), and clover, hay at 0.1 parts per million (ppm). Adequate analytical methods for determining MCPA in/on appropriate raw agricultural commodities and processed commodities have been developed and validated. Contact: RD.

6. PP 0E8880. (EPA-HQ-OPP-2021-0356). Syngenta Crop Protection, LLC, P.O. Box 18300, Greenboro, NC 27419, requests to establish a tolerance for residues of the insecticide spiropidion in or on Cucurbit Vegetables (CG9) at 0.8 parts per million (ppm); Fruiting Vegetables (CG8), 1.5 ppm; Soybeans, 3 ppm; Potato (CG 1C), 1.5 ppm; Poultry Meat, 0.01 ppm, Meat Byproducts of Poultry, 0.01 ppm; Fat of Poultry, 0.01 ppm; Eggs. 0.01 ppm; Milk and Milk Byproducts, 0.01 ppm; Meat Byproducts of Cattle, goat, Hogs, Horses and Sheep, 0.3 ppm; Fat of Cattle, Goat, Hogs, Horses and Sheep, 0.04 ppm; Wet Tomato Peel, 3 ppm; Dried Tomato Pomace, 40 ppm; Tomato Paste, 3 ppm; Tomato Puree, 2 ppm; Dried Tomatoes, 15 ppm; Soy Meal, 5 ppm; Soy Flour, 5 ppm; Pollard, 4 ppm; Soy Aspirated Grain Fractions, 6 ppm; Raw Peeled Potatoes, 3 ppm; Baked Potatoes with skin, 3 ppm; Potato Chips/Fries, 2 ppm; Potato Granules/Flakes, 5 ppm; Potato Process Waste, 3 ppm; Dried Potato Pulp, 3 ppm and Potato Protein, 5 ppm. Syngenta Crop Protection, LLC has submitted practical analytical methodology for detecting and measuring levels of Spiropidion in or on raw agricultural commodities. This method is based on crop specific cleanup procedures and determination by liquid chromatography with either UV or MS detections. Analytical method GRM069.02A has been demonstrated to be a reliable and accurate procedure for the determination of SYN546330 and SYN547305 in crops to a limit of quantification of 0.01 mg/kg, using commercially available laboratory equipment and reagents. Contact: RD.

7. PP 0E8882. (EPA-HQ-OPP-2021-0153). Interregional Research Project No. 4 (IR-4), IR-4 Project Headquarters, Rutgers, The State University of NJ, 500 College Road East, Suite 201 W, Princeton, NJ 08540, requests to amend 40 CFR part 180 by establishing tolerances for residues of novaluron, including its metabolites and degradates, in or on the following commodities. Compliance with the tolerance levels is to be determined by measuring only novaluron, (N-3-chloro-4-1,1,2-trifluoro-2-(trifluoromethoxy ethoxyphenylaminocarbonyl-2,6-difluorobenzamide), in or on the following raw agricultural commodities: Individual crops of Proposed Crop Subgroup 6-19A: Edible podded bean legume vegetable subgroup including Asparagus bean, edible podded at 0.7 parts per million (ppm), Catjang bean, edible podded at 0.7 ppm, Chinese longbean, edible podded at 0.7 ppm, Cowpea, edible podded at 0.7 ppm, French bean, edible podded at 0.7 ppm, Garden bean, edible podded at 0.7 ppm, Goa bean, edible podded at 0.7 ppm, Green bean, edible podded at 0.7 ppm, Guar bean, edible podded at 0.7 ppm, Jackbean, edible podded at 0.7 ppm, Kidney bean, edible podded at 0.7 ppm, Lablab bean, edible podded at 0.7 ppm, Moth bean, edible podded at 0.7 ppm, Mung bean, edible podded at 0.7 ppm, Navy bean, edible podded at 0.7 ppm, Rice bean, edible podded at 0.7 ppm, Scarlet runner bean, edible podded at 0.7 ppm, Snap bean, edible podded at 0.7 ppm, Sword bean, edible podded at 0.7 ppm, Urd bean, edible podded at 0.7 ppm, Vegetable soybean, edible podded at 0.7 ppm, Velvet bean, edible podded at 0.7 ppm, Wax bean, edible podded at 0.7 ppm, Winged pea, edible podded at 0.7 ppm, Yardlong bean, edible podded at 0.7 ppm; Individual crops of Proposed Crop Subgroup 6-19B: Edible podded pea legume vegetable subgroup including Chickpea, edible podded at 2 ppm, Dwarf pea, edible podded at 2 ppm, Edible podded pea at 2 ppm, Grass-pea, edible podded at 2 ppm, Green pea, edible podded at 2 ppm, Lentil, edible podded at 2 ppm, Pigeon pea, edible podded at 2 ppm, Snap pea, edible podded at 2 ppm, Snow pea, edible podded at 2 ppm, Sugar snap pea, edible podded at 2 ppm; Individual crops of Proposed Crop Subgroup 6-19C: Succulent shelled bean subgroup including Andean lupin, succulent shelled at 0.7 ppm, Blackeyed pea, succulent shelled at 0.7 ppm, Blue lupin, succulent shelled at 0.7 ppm, Broad bean, succulent shelled at 0.7 ppm, Catjang bean, succulent shelled at 0.7 ppm, Cowpea, succulent shelled at 0.7 ppm, Crowder pea, succulent shelled at 0.7 ppm, Goa bean, succulent shelled at 0.7 ppm, Grain lupin, succulent shelled at 0.7 ppm, Jackbean, succulent shelled at 0.7 ppm, Lablab bean, succulent shelled at 0.7 ppm, Lima bean, succulent shelled at 0.7 ppm, Moth bean, succulent shelled at 0.7 ppm, Scarlet runner bean, succulent shelled at 0.7 ppm, Southern pea, succulent shelled at 0.7 ppm, Sweet lupin, succulent shelled at 0.7 ppm, Vegetable soybean, succulent shelled at 0.7 ppm, Velvet bean, succulent shelled at 0.7 ppm, Wax bean, succulent shelled at 0.7 ppm, White lupin, succulent shelled at 0.7 ppm, White sweet lupin, succulent shelled at 0.7 ppm, Yellow lupin, succulent shelled at 0.7 ppm; Individual crops of Proposed Crop Subgroup 6-19D: Succulent shelled pea subgroup including Chickpea, succulent shelled at 0.05 ppm, English pea, succulent shelled at 0.05 ppm, Garden pea, succulent shelled at 0.05 ppm, Green pea, succulent shelled at 0.05 ppm, Lentil, succulent shelled at 0.05 ppm, Pigeon pea, succulent shelled at 0.05 ppm; Individual crops of Proposed Crop Subgroup 6-19E: Dried shelled bean, except soybean, subgroup including Adzuki bean, dry seed at 0.3 ppm, African yam-bean, dry seed at 0.3 ppm, American potato bean, dry seed at 0.3 ppm, Andean lupin, dry seed at 0.3 ppm, Asparagus bean, dry seed at 0.3 ppm, Black bean, dry seed at 0.3 ppm, Blackeyed pea, dry seed at 0.3 ppm, Blue lupin, dry seed at 0.3 ppm, Broad bean, dry seed at 0.3 ppm, Catjang bean, dry seed at 0.3 ppm, Chinese longbean, dry seed at 0.3 ppm, Cowpea, dry seed at 0.3 ppm, Cranberry bean, dry seed at 0.3 ppm, Crowder pea, dry seed at 0.3 ppm, Dry bean, dry seed at 0.3 ppm, Field bean, dry seed at 0.3 ppm, French bean, dry seed at 0.3 ppm, Garden bean, dry seed at 0.3 ppm, Goa bean, dry seed at 0.3 ppm, Grain lupin, dry seed at 0.3 ppm, Great northern bean, dry seed at 0.3 ppm, Green bean, dry seed at 0.3 ppm, Guar bean, dry seed at 0.3 ppm, Horse gram, dry seed at 0.3 ppm, Jackbean, dry seed at 0.3 ppm, Kidney bean, dry seed at 0.3 ppm, Lablab bean, dry seed at 0.3 ppm, Lima bean, dry seed at 0.3 ppm, Morama bean, dry seed at 0.3 ppm, Moth bean, dry seed at 0.3 ppm, Mung bean, dry seed at 0.3 ppm, Navy bean, dry seed at 0.3 ppm, Pink bean, dry seed at 0.3 ppm, Pinto bean, dry seed at 0.3 ppm, Red bean, dry seed at 0.3 ppm, Rice bean, dry seed at 0.3 ppm, Scarlet runner bean, dry seed at 0.3 ppm, Southern pea, dry seed at 0.3 ppm, Sweet lupin, dry seed at 0.3 ppm, Sword bean, dry seed at 0.3 ppm, Tepary bean, dry seed at 0.3 ppm, Urd bean, dry seed at 0.3 ppm, Vegetable soybean, dry seed at 0.3 ppm, Velvet bean, seed, dry seed at 0.3 ppm, White lupin, dry seed at 0.3 ppm, White sweet lupin, dry seed at 0.3 ppm, Winged pea, dry seed at 0.3 ppm, Yardlong bean, dry seed at 0.3 ppm, Yellow bean, dry seed at 0.3 ppm, Yellow lupin, dry seed at 0.3 ppm; Individual crops of Proposed Crop Subgroup 6-19F: Dried shelled pea subgroup including: Chickpea, dry seed at 0.1 ppm, Dry pea, dry seed at 0.1 ppm, Field pea, dry seed at 0.1 ppm, Garden pea, dry seed at 0.1 ppm, Grass-pea, dry seed at 0.1 ppm, Green pea, dry seed at 0.1 ppm, Lentil, dry seed at 0.1 ppm, Pigeon pea, dry seed at 0.1 ppm; and Pea, forage at 15 ppm. Adequate analytical methods for determining novaluron in/on appropriate raw agricultural commodities and processed commodities have been developed and validated. Contact: RD.

8. PP 0F8885. (EPA-HQ-OPP-2021-0339). Belchim Crop Protection N.V./S.A. c/o Belchim Crop Protection US Corporation, 2751 Centreville Rd., Suite 100, Wilmington, DE 19808, requests to establish a tolerance in 40 CFR part 180 for residues of the herbicide pyridate in or on the raw agricultural commodities lentils at 0.4 parts per million (ppm) and the Rapeseed SubGroup (Crop Subgroup 20A) at 0.015 ppm. The HPLC-MS/MS residue analytical method is used to measure and evaluate the chemical pyridate. Contact: RD.

9. PP 0E8894. (EPA-HQ-OPP-2021-0203). Interregional Research Project No. 4 (IR-4), IR-4 Project Headquarters, Rutgers, The State University of NJ, 500 College Road East, Suite 201 W, Princeton, NJ 08540, requests to amend 40 CFR part 180 by establishing tolerances for residues of Sulfur dioxide, including its metabolite and degradates, in or on Blueberry at 9 ppm. An analytical enforcement method using high performance liquid chromatography with tandem mass spectrometry is available for enforcement of tolerances for sulfites restudies of sulfur dioxide in food. Contact: RD.

10. PP 9F8795. (EPA-HQ-OPP-2020-0065). This posting is amending the previous NOF dated April 15, 2020 by announcing commodities that were not included in the previous NOF. E.I. du Pont de Nemours & Company (“DuPont”), Chestnut Run Plaza, 974 Centre Road, Wilmington, DE 19805, requests to establish a tolerance in 40 CFR part 180 for residues of the nematicide, fluazaindolizine in or on Poultry, fat at 0.01 ppm; Poultry, meat at 0.01 ppm; Poultry, meat byproducts at 0.01 ppm; and Eggs at 0.01 ppm. In addition, DuPont is proposing pursuant to section 408(d) of the Federal Food, Drug and cosmetic Act, 21 U.S.C. 346a(d), to amend 40 CFR part 180 to establish indirect or inadvertent tolerances for residues of fluazaindolizine, including its metabolites and their conjugates, expressed as the stoichiometric equivalent of fluazaindolizine, in or on the following commodity: Grass, forage, fodder and hay, group 17, straw at 0.15 ppm. The LC/MS/MS system operating with an electrospray interface (ESI) operating in both positive and negative polarities is used to measure and evaluate the chemical fluazaindolizine. Contact: RD.

11. PP 0F8872. (EPA-HQ-OPP-2021-0355). Makhteshim Agan of North America, Inc. (d/b/a ADAMA), 3120 Highwoods Boulevard, Suite 100, Raleigh, NC 27604, requests to establish a tolerance for residues of the insecticide novaluron in or on Tree nuts, nutmeat (Crop Group 14-12) at 0.07 parts per million (ppm) and, Almond, hulls at 15.0 ppm. The samples were analyzed using a working method very similar to the reference method, “Magnitude of the Residue on Novaluron in Pome Fruit Raw Agricultural and Processed Commodities”, PTRL Study #991W. Samples were homogenized with dry ice using a Robot Coupe chopper. Ten-gram subsamples were extracted in methanol/water using two rounds of blending with an Omni mixer. The extract was filtered to remove the solids from solution. An aliquot of the extract was evaporated to remove the methanol. Aqueous sodium chloride was added to the remaining aqueous fraction, and the aqueous fraction was extracted three times against ethyl acetate. The ethyl acetate fractions were combined and evaporated just to dryness on a nitrogen evaporator. The sample residue was re-dissolved in ethyl acetate and taken for clean-up on an amino (NH2) solid phase extraction cartridge. The eluate was evaporated on a nitrogen evaporator and then brought to a known volume with ethyl acetate. The extracts were analyzed using a gas chromatograph with a micro electron capture detector (μECD). Method suitability was evaluated both prior to sample analysis and concurrently with sample analysis. Recoveries were in the range 82-118%. The lowest level of method validation (LLMV) for pea (dry) was approximately 0.05 ppm for novaluron. Contact: RD.

12. PP 0F8883 and PP 0F8884. (EPA-HQ-OPP-2016-0013). ISK Biosciences Corporation, 7470 Auburn Road, Suite A, Concord, OH 44077, requests to establish a tolerance for residues of the insecticide flonicamid in or on Small fruit, vine climbing (except fuzzy kiwifruit) (crop group 13-07F) at 3.0 parts per million (ppm) and to amend the existing tolerance in or on alfalfa, hay at 7.0 ppm. Analytical methodology has been developed to determine the residues of flonicamid and its three major plant metabolites, TFNA, TFNG, and TFNA-AM in various crops. The residue analytical method for the majority of crops includes an initial extraction with acetonitrile (ACN)/deionized (DI) water, followed by a liquid-liquid partition with ethyl acetate. The residue method for wheat straw is similar, except that a C18 solid phase extraction (SPE) is added prior to the liquid-liquid partition. The final sample solution is quantitated using a liquid chromatograph (LC) equipped with a reverse phase column and a triple quadruple mass spectrometer (MS/MS). Contact: RD.

Authority: 21 U.S.C. 346a.

Dated: June 8, 2021.
Delores Barber,
Director, Information Technology and Resources Management Division, Office of Program Support.

[FR Doc. 2021-13702 Filed 6-25-21; 8:45 am]

BILLING CODE 6560-50-P